ENVIRONMENTAL PROTECTION AGENCY

[EPA-HQ-OLEM-2017-0449; FRL-9966-51-OLEM]

Agency Information Collection Activities; Proposed Collection; Comment Request; Identification, Listing and Rulemaking Petitions (Revision)

AGENCY: Environmental Protection Agency (EPA).

ACTION: Notice.

SUMMARY: The Environmental Protection Agency is planning to submit a revised information collection request (ICR), “Identification, Listing and Rulemaking Petitions (Revision)” (EPA ICR No. 1189.26, OMB Control No. 2050-0053) to the Office of Management and Budget (OMB) for review and approval in accordance with the Paperwork Reduction Act. Before doing so, EPA is soliciting public comments on specific aspects of the proposed information collection as described below. This is a request for approval of a new collection and revision to a single activity contained in an existing approved collection. An agency may not conduct or sponsor and a person is not required to respond to a collection of information unless it displays a currently valid OMB control number.

DATES: Comments must be submitted on or before October 16, 2017.

ADDRESSES: Submit your comments, referencing Docket ID No. EPA-HQ-OLEM-2017-0449, online using www.regulations.gov (our preferred method) or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: For information concerning this notice, contact Kirsten Hillyer, Office of Resource Conservation and Recovery, U.S. Environmental Protection Agency, 1200 Pennsylvania Ave., Mail Code 5304-P, Washington, DC 20460; telephone number: (703) 347-0369; email address: hillyer.kirsten@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Resource Conservation and Recovery Act (RCRA) is the public law that creates the framework for the proper management of hazardous and non-hazardous solid waste. The RCRA regulations established by EPA can be found in 40 CFR parts 239 through 282. This ICR (ICR No. 1189.26) is a consolidation of a number of previously approved RCRA ICRs, including the ICR for the rulemaking titled “Disposal of Coal Combustion Residuals from Electric Utilities” (CCR rule), a rulemaking which was published in the Federal Register on April 17, 2015. The CCR rule establishes a comprehensive set of requirements for the disposal of CCR in landfills and surface impoundments, including minimum federal criteria for groundwater monitoring and corrective action, structural stability, design and operation standards, closure and post-closure care standards, and recordkeeping, reporting and internet posting requirements.

In December 2016, the President signed the Water Infrastructure Improvements for the Nation (WIIN) Act. Section 2301 of the WIIN Act amended RCRA Subtitle D and established new statutory provisions for the control of CCR when placed in CCR landfills and surface impoundments. In particular, the WIIN Act provides that states may, but are not required to, develop and submit a permit program (or other system of prior approval) for control of CCR to EPA for approval. Such a program does not have to be identical to the requirements in the CCR rule (40 CFR part 257, subpart D), but must be at least as protective as the federal CCR requirements. In order for a state to receive approval of its CCR permit program, the state must submit to EPA specific materials that would constitute a “complete” CCR permit program application. The information collection includes those activities to develop the necessary CCR permit (or other system of prior approval) program materials for submittal to EPA for approval. EPA is developing a guidance document to provide states with the information needed to apply for CCR program approval.

To enable EPA to implement the new authorities provided by the WIIN Act (that is, to review and make determinations on State programs), EPA is revising ICR No. 1189.26 to account for the new burden and cost estimates associated with the voluntary actions that states may take to obtain CCR permit program approval. In this revision to the ICR, EPA is also making changes to the current burden and cost estimates associated with a separate voluntary state activity. Specifically, EPA is proposing to revise the respondent universe associated with the activity of submitting a solid waste management plan to EPA for approval. The solid waste management plan is the mechanism where a state is able to set out, as part of their overall solid waste program, how the state intends to regulate CCR landfills and surface impoundments. While the burden and cost associated with this activity is included in the currently approved ICR, EPA is revising the burden and cost estimates to better reflect the actual state response observed since the CCR rule was published in 2015.

The EPA is not making any other substantive revisions to the currently approved ICR. The EPA is only soliciting comments on burden and cost estimates associated with activities relating to state CCR permit programs and state solid waste management plans and will not consider comments on other aspects of the currently approved ICR.

Form Numbers: None.

Respondents/affected entities: This ICR affects owners and operators of CCR landfills and surface impoundments that dispose or otherwise engage in solid waste management of CCR generated from the combustion of coal at electric utilities and independent power producers. This ICR also affects states that voluntarily elect to seek approval from EPA of their state CCR permit program or solid waste management plan.

Respondent's obligation to respond: For the CCR rule portion of the ICR, the recordkeeping, notification, and internet posting requirements are mandatory under 40 CFR part 257, subpart D. The actions that states may take to obtain approval from EPA of either their CCR permit program or solid waste management plan is voluntary.

Estimated number of respondents: 494 (total subject to the CCR rule portion of the ICR).

Frequency of response: Initially, occasionally, annually, and every five years.

Total estimated burden: 354,602 hours (per year) for the CCR rule portion of the ICR. Burden is defined at 5 CFR 1320.03(b).

Total estimated cost: $63,858,128 (per year) for the CCR rule portion of the ICR, which includes $41,112,513 annualized capital cost or operation & maintenance costs.

Changes in Estimates: There is decrease of 4,355 hours in the total estimated respondent burden compared with the ICR currently approved by OMB. The decrease in burden from the most recently approved ICR is due to adjustments in the respondent universe associated with state solid waste management plan activities. The most recently approved ICR overestimated the number of states that would voluntarily update their overall solid waste program by submitting to EPA a solid waste management plan for CCR for approval. The revision to the burden estimates for the solid waste management plan activity exceeded the burden estimates associated with the new state CCR permit program approval activity, which resulted in an overall decrease in burden hours.

Dated: August 8, 2017.
Barnes Johnson,
Director, Office of Resource Conservation and Recovery.

[FR Doc. 2017-17268 Filed 8-15-17; 8:45 am]

BILLING CODE 6560-50-P